ENVIRONMENTAL PROTECTION AGENCY

[Docket ID No. EPA-HQ-ORD-2014-0231; FR:-9908-78-ORD]

Draft Revised EPA's Report on the Environment 2014

AGENCY: Environmental Protection Agency (EPA).

ACTION: Notice of public comment period.

SUMMARY: The Environmental Protection Agency (EPA) is announcing a 30-day public comment period for the draft revised web-based, “EPA's Report on the Environment 2014” (ROE 2014). The ROE is a comprehensive source of scientific indicators that describe the trends in the nation's environmental and human health condition. ROE 2014 was prepared by the National Center for Environmental Assessment within EPA's Office of Research and Development, working in collaboration with EPA Program and Regional offices.

The public comment period provides opportunities for all interested parties to comment on the draft ROE 2014. The draft ROE will also be reviewed by the agency's independent Science Advisory Board (SAB) at a later date which will be announced in the Federal Register. When finalizing the draft ROE 2014, EPA intends to consider any public comments that EPA receives in accordance with this notice and intends to forward these comments to the SAB panel prior to their review.

EPA is releasing the draft ROE 2014 for the purposes of public comment and peer review. This draft is not final as described in EPA's information quality guidelines, and it does not represent and should not be construed to represent Agency policy or views.

The draft ROE 2014 Web site can be accessed at the following url: www.epa.gov/draftroe.

DATES: The 30 day public comment period begins March 27, 2014, and ends April 28, 2014. Technical comments should be in writing and must be received by EPA by April 28, 2014.

ADDRESSES: The draft “EPA's Report on the Environment 2014” is web-based and is available solely via the Internet using this URL: www.epa.gov/draftroe.

Comments may be submitted electronically via www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-9744; or email: Docket_ORD@epa.gov.

For technical information, contact Dr. Patricia Murphy, NCEA; telephone: 732-906-6830, facsimile: 732-906-6896 or email: murphy.patricia@epa.gov.

SUPPLEMENTARY INFORMATION:

I. Information About the Project/Document

EPA's draft ROE 2014 is a comprehensive source of scientific indicators that describe the trends in the nation's environmental and human health condition. The indicators help to answer important questions for EPA about the current status and historical trends in U.S. air, water, land, human health, ecological systems, and aspects of sustainability at the national and regional levels. These indicators are based on data collected by the EPA, other federal and state agencies, and non-governmental organizations and meet high standards for data quality, objectivity, and utility. The ROE reports status and trends; it does not analyze or diagnose the reasons for, and relationships between, trends in stressors and environmental and health outcomes.

Since its earliest release in 2003, the ROE has undergone periodic updates and restructurings. The latest version features several significant changes, the most notable being that the draft ROE 2014 is fully online, allowing it to be more interactive and accessible than ever. Users can customize graphics and pan and zoom on maps. For certain indicators, users can now choose to view statistical information about the data by simply clicking display options. Additionally, new indicators fill information gaps which previously lacked reliable, long-term data. A new conceptual framework and sustainability theme have also been added.

II. How To Submit Technical Comments to the Docket at www.regulations.gov

Submit your comments, identified by Docket ID No. EPA-HQ-ORD-2014-0231, by one of the following methods:

• www.regulations.gov: Follow the online instructions for submitting comments.

• Email: Docket_ORD@epa.gov.

• Fax: 202-566-9744.

• Mail: Office of Environmental Information (OEI) Docket (Mail Code: 28221T), U.S. Environmental Protection Agency, 1200 Pennsylvania Ave. NW., Washington, DC 20460. The phone number is 202-566-1752. If you provide comments by mail, please submit one unbound original with pages numbered consecutively, and three copies of the comments. For attachments, provide an index, number pages consecutively with the comments, and submit an unbound original and three copies.

• Hand Delivery: The OEI Docket is located in the EPA Headquarters Docket Center, Room 3334 EPA West Building, 1301 Constitution Ave. NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

Instructions: Direct your comments to Docket ID No. EPA-HQ-ORD-2014-0231. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center home page at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the OEI Docket in the EPA Headquarters Docket Center.

Dated: March 19, 2014.
John Vandenberg,
Acting Director, National Center for Environmental Assessment.

[FR Doc. 2014-06824 Filed 3-26-14; 8:45 am]

BILLING CODE 6560-50-P